FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 017855F.

Name: 1st Class International, Inc.

Address: 7272-D Park Circle Drive, Hanover, MD 21076.

Date Revoked: December 16, 2004.

Reason: Failed to maintain a valid bond.

License Number: 005892NF.

Name: Greenbriar Forwarding Co., Inc.

Address: 108 Liberty Street, Metuchen, NJ 08840.

Date Revoked: December 19 2004.

Reason: Failed to maintain valid bonds.

License Number: 017643N.

Name: Grizzard Customs Brokers, Inc.

Address: 4158 Old Dixie Road, Hapeville, GA 30354.

Date Revoked: December 18, 2004.

Reason: Failed to maintain a valid bond.

License Number: 018127N.

Name: Penasa Logistics (USA), Inc.

Address: 1122 La Cienega Blvd., Suite 180, Inglewood, CA 90304.

Date Revoked: December 16, 2004.

Reason: Failed to maintain a valid bond.

License Number: 014427F.

Name: Richard D. Kim dba Best Containers Express Co.

Address: 20435 S. Western Avenue, Suite B, Torrance, CA 90501-1506.

Date Revoked: December 16, 2004.

Reason: Failed to maintain a valid bond.

License Number: 017052N.

Name: Sec Sea & Air, Inc.

Address: 1145 W. Walnut Street, Compton, CA 90020.

Date Revoked: December 19, 2004.

Reason: Failed to maintain a valid bond.

Sandra L. Kusumoto,
Director, Bureau of Certification and Licensing.

[FR Doc. 05-643 Filed 1-11-05; 8:45 am]

BILLING CODE 6730-01-P